DEPARTMENT OF STATE

[Public Notice 8690]

Notice of Public Comments on FY 2015 U.S. Refugee Admissions Program

The United States actively supports efforts to provide protection, assistance, and durable solutions for refugees. The U.S. Refugee Admissions Program (USRAP) is a critical component of the United States' overall refugee protection efforts around the globe. In Fiscal Year 2014, the President established the refugee admissions level into the United States of up to 70,000 refugees.

As we begin to prepare the FY 2015 U.S. Refugee Admission Program, we welcome the public's input. Persons wishing to submit written comments on the appropriate size and scope of the FY 2015 U.S. Refugee Admissions Program should submit them by 5 p.m. on Thursday, May 29, 2014 via email to spruellda@state.gov or fax (202) 453-9393.

If you have questions about submitting written comments, please contact Delicia Spruell, PRM/Admissions Program Officer at (202) 453-9257. Information about the U.S. Refugee Admissions Program may be found at http://www.state.gov/g/prm./

Dated: April 2, 2014.
Simon Henshaw,
Principal Deputy Assistant Secretary, Bureau of Population, Refugees, and Migration, Department of State.

[FR Doc. 2014-08113 Filed 4-9-14; 8:45 am]

BILLING CODE 4710-33-P